ENVIRONMENTAL PROTECTION AGENCY

[CERCLA 01-2022-0056 and 01-2022-0057; FRL-10526-01-R1]

Proposed CERCLA Administrative Settlement Agreement for Removal Action by Prospective Purchaser and Proposed CERCLA Administrative Cost Recovery Settlement: Wells G&H Superfund Site, Woburn, Massachusetts

AGENCY: Environmental Protection Agency (EPA).

ACTION: Notice of proposed settlement; request for public comments.

SUMMARY: Notice is hereby given by EPA Region 1 of a proposed settlement comprised of two administrative agreements, an administrative Settlement Agreement under Section 122(h)(1) of the Comprehensive Environmental Response, Compensation and Liability Act (“CERCLA”) (“122(h) Agreement”), In the Matter of: Wells G&H Superfund Site, Woburn, MA: Olympia Nominee Trust et al., EPA Region 1, CERCLA Docket No. 01-2022-0057, and an Administrative Settlement Agreement for Removal Action by Prospective Purchaser (“PPA”), In the Matter of: Wells G&H Superfund Site, Woburn, MA: IV5 60 Oympia Ave LLC et al., EPA Region 1, CERCLA Docket No. 01-2022-0056.

DATES: Comments must be submitted by January 30, 2023.

ADDRESSES: Comments should be addressed to RuthAnn Sherman, Senior Enforcement Counsel, Office of Regional Counsel, U.S. Environmental Protection Agency, 5 Post Office Square, Suite 100 (04-2), Boston, MA 02109-3912, (617) 918-1886, sherman.ruthann@epa.gov, and should reference the Wells G&H Superfund Site, U.S. EPA Docket Nos: CERCLA 01-2022-0056 and CERCLA 01-2022-0057.

FOR FURTHER INFORMATION CONTACT: A copy of the proposed settlement may be obtained from RuthAnn Sherman, Senior Enforcement Counsel, Office of Regional Counsel, U.S. Environmental Protection Agency, Region I, 5 Post Office Square, Suite 100 (04-2), Boston, MA 02109-3912, telephone number: (617) 918-1886, email address: sherman.ruthann@epa.gov.

SUPPLEMENTARY INFORMATION: The EPA and the respective nonfederal parties have signed these agreements and the settlement has been approved by the Environmental and Natural Resources Division of the United States Department of Justice. The settlement is for recovery of response costs and performance of a response action related to two parcels totaling 21.3 acres (the “Property”), located within the 330-acre Wells G&H Superfund Site, in Woburn, Massachusetts (the “Site”). Under the 122(h) Agreement, three current and former owners and operators of the Property (collectively, “Olympia”) will pay $1.2 million in reimbursement of past response costs paid by the United States in connection with an ongoing removal action at the Property, started by Olympia approximately 18 years ago. Under the PPA, two non-liable prospective purchasers will enhance and accelerate the removal action, including the cleanup of trichloroethylene in soils and volatile organic compounds in groundwater, pay 80% of EPA's future oversight costs, and pay 100% of the United States' other future response costs. The prospective purchasers in the PPA are: IV5 60 OLYMPIA AVE LLC and IV5 60 OLYMPIA AVE LAND LLC; and the Settling Parties in the 122(h) Agreement are: Olympia Nominee Trust, Olympia Aberjona, LLC, and Juniper Development Group LLC. The settlement has been approved by the Environmental and Natural Resources Division of the United States Department of Justice. For 30 days following the date of publication of this notice, the United States will receive written comments relating to the settlement. The United States will consider all comments received and may modify or withdraw its consent to this settlement if comments received disclose facts or considerations which indicate that the settlement is inappropriate, improper, or inadequate. The United States' response to any comments received will be available for public inspection at the Environmental Protection Agency—Region 1, 5 Post Office Square, Suite 100, Boston, MA 02109-3912.

This proposed settlement comprised of two administrative agreements concerning the Wells G&H Superfund Site, located in Woburn, Middlesex County, Massachusetts, is made in accordance with the authority of the Attorney General to compromise and settle claims of the United States, consistent with the Comprehensive Environmental Response, Compensation, and Liability Act (CERCLA).

For 30 days following the date of publication of this notice, the United States will receive written comments relating to the settlement. The Effective Date of the PPA is the date upon which both of the following events have occurred: (a) EPA issues written notice to Purchaser that the public comment period has closed and the United States, after review of and response to any public comments received, has determined not to withhold its consent or seek to modify the Agreement; and (b) Purchaser has executed the Prospective Purchaser Agreement; and (3) Purchaser has closed on the purchase of the property at the Site. Upon the Effective Date of the PPA, the Settling Parties under the 122(h) Agreement shall pay the $1.2 million in past response costs.

Dated: December 22, 2022.
Bryan Olson,
Director, Superfund and Emergency Management Division.

[FR Doc. 2022-28310 Filed 12-28-22; 8:45 am]

BILLING CODE 6560-50-P